DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado: Larimer (FEMA Docket No.: B-2321). | Unincorporated areas of Larimer County (22-08-0541P). | The Honorable Kristin Stephens, Chair, Larimer County Board of Commissioners, P.O. Box 1190, Fort Collins, CO 80522. | Larimer County Administrative Offices Building, 200 West Oak Street, Suite 3000, Fort Collins, CO, 80521. | May 31, 2023 | 080101
Florida:
Monroe (FEMA Docket No.: B-2321). | Unincorporated areas of Monroe County (23-04-0293P). | The Honorable Craig Cates, Mayor, Monroe County Board of Commissioners, 500 Whitehead Street, Suite 102, Key West, FL 33040. | Monroe County Building Department, 2798 Overseas, Highway, Suite 300, Marathon, FL, 33050. | May 25, 2023 | 125129
Monroe (FEMA Docket No.: B-2321). | Village of Islamorada (23-04-0348P). | The Honorable Joseph Buddy Pinder III, Mayor, Village of Islamorada, 86800 Overseas Highway, Islamorada, FL 33036. | Building Department, 86800 Overseas Highway, Islamorada, FL, 33036. | May 25, 2023 | 120424
Palm Beach (FEMA Docket No.: B-2321). | Unincorporated areas of Palm Beach County (22-04-0989P). | Verdenia C. Baker, Palm Beach County Administrator, 301 North Olive Avenue, Suite 1101, West Palm Beach, FL, 33401. | Palm Beach County, Vista Center, 2300 North Jog Road, West Palm Beach, FL, 33411. | May 23, 2023 | 120192
Minnesota:
Hennepin (FEMA Docket No.: B-2324). | City of Corcoran (22-05-1366P). | The Honorable Tom McKee, Mayor, City of Corcoran, 8200 County Road 116, Corcoran, MN 55340. | Public Works Department, 8200 County Road 116, Corcoran, MN 55340. | May 26, 2023 | 270155
Hennepin (FEMA Docket No.: B-2324). | City of Maple Grove (22-05-1366P). | The Honorable Mark Steffenson, Mayor, City of Maple Grove, 12800 Arbor Lakes Parkway, North Maple Grove, MN 55369. | Engineering Department, 12800 Arbor Lakes Parkway, North Maple Grove, MN 55369. | May 26, 2023 | 270169
North Carolina:
Mecklenburg (FEMA Docket No.: B-2324). | City of Charlotte (22-04-3208P). | The Honorable Vi Alexander Lyles, Mayor, City of Charlotte, 600 East 4th Street, Charlotte, NC 28202. | Mecklenburg County Stormwater Services Department, 2145 Suttle Avenue, Charlotte, NC 28208. | May 31, 2023 | 370159
Mecklenburg (FEMA Docket No.: B-2324). | City of Charlotte (22-04-4558P). | The Honorable Vi Alexander Lyles, Mayor, City of Charlotte, 600 East 4th Street, Charlotte, NC 28202. | Mecklenburg County Stormwater Services Department, 2145 Suttle Avenue, Charlotte, NC 28208. | Jun. 7, 2023 | 370159
Mecklenburg (FEMA Docket No.: B-2324). | Town of Pineville (22-04-4558P). | The Honorable John Edwards, Mayor, Town of Pineville, 253 Pineville Forest Drive, Pineville, NC 28134. | Mecklenburg County Stormwater Services Department, 2145 Suttle Avenue, Charlotte, NC 28208. | Jun. 7, 2023 | 370160
Moore (FEMA Docket No.: B-2321). | Village of Pinehurst (22-04-4043P). | The Honorable John C. Strickland, Mayor, Village of Pinehurst, 395 Magnolia Road, Pinehurst, NC 28374. | Planning and Inspections Department, 395 Magnolia Road, Pinehurst, NC 28374. | Jun. 8, 2023 | 370463
Rockingham (FEMA Docket No.: B-2334). | City of Eden (22-04-5301P). | The Honorable Neville Hall, Mayor, City of Eden, 308 East Stadium Drive, Eden, NC 27288. | Planning and Inspections, 308 East Stadium Drive, Eden, NC 27288. | Jun. 13, 2023 | 370206
Surry (FEMA Docket No.: B-2324). | Unincorporated areas of Surry County (22-04-2047P). | Eddie Harris, Chair, Surry County Board of Commissioners, 848 Liberty School Road, State Road, NC 28676. | Surry County Planning and Development Department, 122 Hamby Road, Dobson, NC 27017. | Jun. 13, 2023 | 370364
Tennessee: Williamson (FEMA Docket No.: B-2324). | Unincorporated areas of Williamson County (22-04-4169P). | The Honorable Rogers Anderson, Mayor, Williamson County, 1320 West Main Street, Suite 125, Franklin, TN 37064. | Williamson County Administrative Complex, 1320 West Main Street, Suite 400, Franklin, TN 37064. | Jun. 2, 2023 | 470204
Texas:
Brazoria (FEMA Docket No.: B-2324). | City of Pearland (22-06-1958P). | The Honorable Kevin Cole, Mayor, City of Pearland, 3519 Liberty Drive, Pearland, TX 77581. | Engineering and Public Works Department, 2016 Old Alvin Road, Pearland, TX 77581. | Jun. 1, 2023 | 480077
Denton (FEMA Docket No.: B-2324). | City of Corinth (21-06-3404P). | Scott Campbell, Manager, City of Corinth, 3300 Corinth Parkway, Corinth, TX 76208. | Engineering Department, 1200 Corinth Street, Corinth, TX 76208. | Jun. 5, 2023 | 481143
Denton (FEMA Docket No.: B-2324). | City of Denton (21-06-3404P). | The Honorable Gerard Hudspeth, Mayor, City of Denton, 215 East McKinney Street, Suite 100, Denton, TX 76201. | Capital Projects/Engineering Department, 401 North Elm Street, Denton, TX 76201. | Jun. 5, 2023 | 480194
Ellis (FEMA Docket No.: B-2324). | City of Midlothian (22-06-2256P). | The Honorable Richard Reno, Mayor, City of Midlothian, 104 West Avenue E, Midlothian, TX 76065. | Engineering Department, 104 West Avenue E, Midlothian, TX 76065. | May 25, 2023 | 480801
Ellis and Johnson (FEMA Docket No.: B-2324). | City of Venus (22-06-1552P). | The Honorable James L. Burgess, Mayor, City of Venus, 700 West U.S. Highway 67, Venus, TX 76084 . | Department of Public Works, 700 West U.S. Highway 67, Venus, TX 76084. | Jun. 1, 2023 | 480883
Ellis (FEMA Docket No.: B-2324). | Unincorporated areas of Ellis County (22-06-1552P). | The Honorable Todd Little, Ellis County Judge, 101 West Main Street, Waxahachie, TX 75165. | Ellis County Courthouse, 101 West Main Street, Waxahachie, TX 75165. | Jun. 1, 2023 | 480798
Ellis (FEMA Docket No.: B-2324). | Unincorporated areas of Ellis County (22-06-2256P). | The Honorable Todd Little, Ellis County Judge, 101 West Main Street, Waxahachie, TX 75165. | Ellis County Courthouse, 101 West Main Street, Waxahachie, TX 75165. | May 25, 2023 | 480798
Hays (FEMA Docket No.: B-2324). | City of Kyle (22-06-1978P). | The Honorable Travis Mitchell, Mayor, City of Kyle, 100 West Center Street, Kyle, TX 78640. | Engineering Department, 100 West Center Street, Kyle, TX 78640. | Jun. 8, 2023 | 481108
McLennan (FEMA Docket No.: B-2334). | City of Hewitt (20-06-3502P). | The Honorable Steve Fortenberry, Mayor, City of Hewitt, 200 Patriot Court, Hewitt, TX 76643. | Community Services Department, 103 Patriot Court, Hewitt, TX 76643. | Jun. 8, 2023 | 480458
McLennan (FEMA Docket No.: B-2334). | City of Robinson (20-06-3502P). | The Honorable Bert Echterling, Mayor, City of Robinson, 111 West Lyndale Drive, Robinson, TX 76706. | City Hall, 111 West Lyndale Drive, Robinson, TX 76706. | Jun. 8, 2023 | 480460
McLennan (FEMA Docket No.: B-2334). | City of Waco (20-06-3502P). | The Honorable Dillon Meek, Mayor, City of Waco, P.O. Box 2570, Waco, TX 76702. | Public Works Department, 401 Franklin Avenue, Waco, TX 76701. | Jun. 8, 2023 | 480461
McLennan (FEMA Docket No.: B-2334). | City of Woodway (20-06-3502P). | Shawn Oubre, Manager, City of Woodway, 922 Estates Drive, Woodway, TX 76712. | Community Services and Development Department, 922 Estates Drive, Woodway, TX 76712. | Jun. 8, 2023 | 480462
McLennan (FEMA Docket No.: B-2334). | Unincorporated areas of McLennan County (20-06-3502P). | The Honorable Scott M. Felton, McLennan County Judge, 501 Washington Avenue, Room 214, Waco, TX 76701. | McLennan County Engineering and Mapping Department, 215 North 5th Street, Suite 130, Waco, TX 76701. | Jun. 8, 2023 | 480456
Travis (FEMA Docket No.: B-2324). | City of Leander (22-06-1862P). | The Honorable Christine DeLisle, Mayor, City of Leander, 105 North Brushy Street, Leander, TX 78641. | Engineering Department, 201 North Brushy Street, Leander, TX 78641. | May 26, 2023 | 481536
Utah:
Washington (FEMA Docket No.: B-2321). | City of St. George (22-08-0356P). | The Honorable Michele Randall, Mayor, City of St. George, 175 East 200 North, St. George, UT 84770. | Engineering Department, 175 East 200 North, St. George, UT 84770. | May 25, 2023 | 490177
Washington (FEMA Docket No.: B-2321). | Unincorporated areas of Washington County (22-08-0356P). | The Honorable Adam Snow, Chair, Washington County Commission, 197 East Tabernacle Street, St. George, UT 84770. | Washington County Planning and Zoning Department, 197 East Tabernacle Street, St. George, UT, 84770. | May 25, 2023 | 490224

[FR Doc. 2023-14631 Filed 7-10-23; 8:45 am]

BILLING CODE 9110-12-P